DEPARTMENT OF THE INTERIOR

National Park Service

Notice of Intent to Repatriate a Cultural Item in the Possession of Pipestone National Monument, National Park Service, Pipestone, MN

AGENCY: National Park Service.

ACTION: Notice.

Notice is hereby given in accordance with provisions of the Native American Graves Protection and Repatriation Act (NAGPRA), 43 CFR 10.10 (a)(3), of the intent to repatriate a cultural item in the possession of Pipestone National Monument, National Park Service, Pipestone, MN which meets the definition of “sacred object” under Section 2 of the Act.

The cultural item is a pipestone pipe fashioned in a generalized “T” shape with a long prow. The pipe stem is wood and fashioned in a flattened diamond shape with three notches cut into the stem, and attached to the bowl with a leather cord. Written on the shank of the pipe bowl in India ink are the words “Chief Roan Horse, Osage.”

Catalog information in the possession of the National Park Service states that the item is an Osage Indian pipe and belonged to Chief Roan Horse in Oklahoma. Further information in the possession of the National Park Service indicates that the claimant, Mr. Raymond A. Lasley, Sr. is the oldest living grandchild of Chief Roan Horse (Kah-wah-ho-tsa). Mr. Lasley, Sr., recognized by the Osage Tribe as a traditional religious leader, identified this specific pipestone pipe as a sacred object, which he needs to perform various traditional ceremonies, including naming ceremonies.

Prior to 1964, the pipe was acquired by the Pipestone Indian Shrine Association. In April of 1964, the National Park Service purchased the pipe from the Pipestone Indian Shrine Association. The circumstances surrounding the original acquisition of this pipe are not clear. Whether the Pipestone Indian Shrine Association acquired the pipe from an individual or group possessing the authority to alienate such an object is unknown. According to members of the Lasley family, this pipestone pipe can not be transferred outside their family. These individuals further indicated that this pipe should only be passed down to family members who have taken-up various ceremonial duties. The lineal descendant, Mr. Lasley, Sr., has designated that his son, Mr. Raymond Lasley, Jr., is to be the next family member to whom the pipe would be passed.

The National Park Service possesses no knowledge of the pipe's original acquisition by the Pipestone Indian Shrine Association. On the basis of information supplied by the Lasley family regarding the nature of the pipe's transferability, as well as a lack of any evidence to the contrary, it is unclear whether the Pipestone Indian Shrine Association obtained a right of possession to the pipe through its initial acquisition. Accordingly, whether a right of possession to this pipe was assumed by the National Park Service when it was purchased from the Pipestone Indian Shrine Association in 1964 is uncertain. The National Park Service can not produce evidence to demonstrate that it holds a right of possession over the pipe, which could operate to overcome the claim Mr. Lasley Sr. brought to obtain this cultural item.

Based on the above-mentioned information, officials of the National Park Service have determined that pursuant to 43 CFR 10.2 (d)(3), this one cultural item is a specific ceremonial object needed by traditional Native American religious leaders for the practice of traditional Native American religion by their present-day adherents. Officials of the National Park Service, pursuant to 43 CFR 10.10 (a) (2), have also determined that the National Park Service is unable to demonstrate that it holds a right of possession over this cultural item. Finally, officials of the National Park Service have determined that, pursuant 43 CFR 10.2 (b) (1), Mr. Raymond A. Lasley, Sr. can trace his ancestry directly and without interruption by means of the traditional kinship system of the Osage Tribe and the common law system of descent to a known Native American individual who controlled this cultural item.

This notice has been sent to Mr. Raymond A. Lasley, Sr. and officials of the Osage Tribe, Oklahoma. Representatives of any other Indian tribe that believes itself to be culturally affiliated with this cultural item should contact Jim LaRock, Superintendent, Pipestone National Monument, P.O. Box 727, 36 Reservation Avenue, Pipestone, MN 56164-0727; telephone: (507) 825-5464 before May 1, 2000. Repatriation of this cultural item to Mr. Raymond A. Lasley, Sr. may begin after the above date if no additional claimants come forward.

Dated: March 16, 2000.
Francis P. McManamon,
Departmental Consulting Archeologist,
Manager, Archeology and Ethnography Program.

[FR Doc. 00-7851 Filed 3-29-00; 8:45 am]

BILLING CODE 4310-70-F